DEPARTMENT OF ENERGY

Federal Energy Regulatory Commission

[Project No. 659-028]

Notice of Application Accepted for Filing, Soliciting Comments, Motions To Intervene, and Protests: Crisp County Power Commission

Take notice that the following hydroelectric application has been filed with the Commission and is available for public inspection:

a. Type of Application: Non-capacity License Amendment.

b. Project No.: 659-028.

c. Date Filed: March 5, 2014.

d. Applicant: Crisp County Power Commission.

e. Name of Project: Lake Blackshear Hydroelectric Project.

f. Location: On the Flint River, in Worth, Lee, Sumter, Dooly, and Crisp counties, Georgia.

g. Filed Pursuant to: Federal Power Act, 16 U.S.C. 791a-825r.

h. Applicant Contacts: Mr. Steve Rentfrow, General Manager, Crisp County Power Commission, 202 South 7th Street, P.O. Box 1218, Cordele, GA 31010, (229) 273-3811, and Mr. David Montgomery Moore, Balch & Bingham LLP, 30 Ivan Allen Jr. Blvd. NW., Suite 700, Atlanta, GA 30308, (404) 962-3530.

i. FERC Contact: Mr. Jeremy Jessup, (202) 502-6779, Jeremy.Jessup@ferc.gov.

j. Deadline for filing comments, motions to intervene, and protests, is 30 days from the issuance date of this notice by the Commission. The Commission strongly encourages electronic filing. Please file comments, motions to intervene, and protests using the Commission's eFiling system at http://www.ferc.gov/docs-filing/efiling.asp. Commenters can submit brief comments up to 6,000 characters without prior registration using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-659-028.

k. Description of Request: The applicant proposes to amend Article 403 of its existing license to revise the reservoir drawdown period for consistency with historically low flows in the Flint River. Article 403 requires the applicant to conduct a biennial lake drawdown from November 1 to December 15. The applicant is proposing fixed dates for the new biennial draw down period to allow sufficient time to conduct the necessary activities of the aquatic plant control program, dock repair, and shoreline maintenance. The applicant is proposing to commence drawdown on November 1 and begin refill on December 15. No other characteristics of the drawdown would change.

l. Locations of the Application: A copy of the application is available for inspection and reproduction at the Commission's Public Reference Room, located at 888 First Street, NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene, and Protests: Anyone may submit comments, a motion to intervene, or protests in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE”, or “PROTEST” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any motion to intervene or protest must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 3, 2014.
Kimberly D. Bose,
Secretary.

[FR Doc. 2014-08039 Filed 4-9-14; 8:45 am]

BILLING CODE 6717-01-P